NUCLEAR REGULATORY COMMISSION

Advisory Committee on Reactor Safeguards; Meeting of the ACRS Subcommittee on Power Uprates; Amendment to April 23, 2010, ACRS Meeting Federal Register Notice

The Federal Register Notice for the ACRS Subcommittee Meeting on Power Uprates scheduled to be held on April 23, 2010, is being amended to notify the following:

Instead of reviewing Supplement 3 to Topical Report NEDC-33173P-A, “Applicability of GE Methods to Expanded Domains,” the Subcommittee will be reviewing the Boiling Water Reactor Owners Group's (BWROG) topical report NEDC-33347P, “Containment Overpressure Credit for Net Positive Suction Head (NPSH),” and the NRC Staff document “NRC Draft Guidance for the Use of Containment Accident Pressure in Determining the NPSH Margin of ECCS and Containment Heat Removal Pumps.”

The meeting will be open to public attendance, with the exception of a portion that may be closed to protect information that is proprietary to General Electric Hitachi (GEH), pursuant to 5 U.S.C. 552b(c)(4).

The notice of this meeting was previously published in the Federal Register on Tuesday, March 25, 2010, [75 FR 16203-16204]. All other items remain the same as previously published.

Further information regarding this meeting can be obtained by contacting the Designated Federal Official Zena Abdullahi, (Telephone: 301-415-8716, E-mail: Zena.Abdullahi@nrc.gov).

Dated: April 1, 2010.
Antonio F. Dias,
Branch Chief, Reactor Safety Branch B, Advisory Committee on Reactor Safeguards.

[FR Doc. 2010-7876 Filed 4-6-10; 8:45 am]

BILLING CODE 7590-01-P